ENVIRONMENTAL PROTECTION AGENCY

40 CFR Part 52

[EPA-R07-OAR-2015-0159; FRL-9925-60-Region 7]

Approval and Promulgation of Implementation Plans; State of Iowa; 2014 Iowa State Implementation Plan; Permit Modifications; Muscatine, Iowa

AGENCY: Environmental Protection Agency.

ACTION: Direct final rule.

SUMMARY: The Environmental Protection Agency (EPA) is approving revisions to the State Implementation Plan (SIP) for the State of Iowa to include modified permits for Muscatine County, Iowa. The SIP revision addresses modifications to construction permits that were included in the 2006 24-hour particulate matter less than 2.5 micrometers (PM2.5) National Ambient Air Quality Standards (NAAQS) control strategy proposed on August 11, 2014, and published as a final rule in the Federal Register on December 1, 2014, with the effective date of December 31, 2014. The state's submission of modified permits includes a revised air dispersion modeling analysis that demonstrated continued attainment of the 2006 24-hour PM2.5 NAAQS. This action will also make an administrative correction to permit numbers.

DATES: This direct final rule will be effective June 2, 2015, without further notice, unless EPA receives adverse comment by May 4, 2015. If EPA receives adverse comment, we will publish a timely withdrawal of the direct final rule in the Federal Register informing the public that the rule will not take effect.

ADDRESSES: Submit your comments, identified by Docket ID No. EPA-R07-OAR-2015-0159 by one of the following methods:

1. www.regulations.gov. Follow the on-line instructions for submitting comments.

2. Email: Hamilton.heather@epa.gov.

3. Mail or Hand Delivery: Heather Hamilton, Environmental Protection Agency, Air Planning and Development Branch, 11201 Renner Boulevard, Lenexa, Kansas 66219.

Instructions: Direct your comments to Docket ID No. EPA-R07-OAR-2015-0159. EPA's policy is that all comments received will be included in the public docket without change and may be made available online at www.regulations.gov, including any personal information provided, unless the comment includes information claimed to be Confidential Business Information (CBI) or other information whose disclosure is restricted by statute. Do not submit through www.regulations.gov or email information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, i.e., CBI or other information whose disclosure is restricted by statute. Certain other material, such as copyrighted material, will be publicly available only in hard copy form. Publicly available docket materials are available either electronically in www.regulations.gov or in hard copy at the Environmental Protection Agency, Air Planning and Development Branch, 11201 Renner Boulevard, Lenexa, Kansas 66219. The Regional Office's official hours of business are Monday through Friday, 8:00 to 4:30 excluding legal holidays. The interested persons wanting to examine these documents should make an appointment with the office at least 24 hours in advance.

FOR FURTHER INFORMATION CONTACT: Heather Hamilton, Environmental Protection Agency, Air Planning and Development Branch, 11201 Renner Boulevard, Lenexa, Kansas 66219 at (913) 551-7039, or by email at Hamilton.heather@epa.gov.

SUPPLEMENTARY INFORMATION: Throughout this document “we,” “us,” or “our” refer to EPA. This section provides additional information by addressing the following:

I. What is being addressed in this document?

II. Have the requirements for approval of a SIP revision been met?

III. What action is EPA taking?

I. What is being addressed in this document?

EPA is taking direct final action to approve SIP revisions to replace specific EPA SIP-approved construction permits with modified permits in Muscatine County, Iowa. The modified permits are associated with PM2.5 emission points at Union Tank Car (UTLX) and Muscatine Power and Water (MPW). Prior versions of these permits were included in the 2006 24-hour PM2.5 NAAQS control strategy proposed in the Federal Register on August 11, 2014, (79 FR 71027) and published as a final rule on December 1, 2014, (79 FR 71025) with an effective date of December 31, 2014. Prior to publication of the final action, modifications to permits submitted with the control strategy were pending (under review by the state and undergoing public comment) for MPW and UTLX.

Permits for UTLX were modified to reflect current operating conditions, stack configurations, and revised PM2.5 emission limits. The permit conditions pertaining to compliance demonstrations and operating condition monitoring, recordkeeping and reporting were included in each modified permit. The Iowa Department of Natural Resources (IDNR) initiated the public comment period that ended on August 28, 2014, for the UTLX modified permits. No comments were received.

Permits for MPW were modified to include updated PM2.5 emission limitations associated with the rail unloading system. The permit conditions pertaining to compliance demonstrations and operating condition monitoring, recordkeeping and reporting were included in each modified permit. IDNR initiated the public comment period that ended on September 4, 2014, for the MPW modified permits. No comments were received.

The modified permits submission included a technical demonstration and an updated air dispersion modeling analysis. The modeling analysis, as well as the modified permits were reviewed by EPA and it was determined that the modifications continue to demonstrate emission reductions and attainment of the 2006 24-hour PM2.5 NAAQS in Muscatine, Iowa, and therefore, does not relax the SIP. Additional technical detail regarding permit modifications is included in the Technical Support Document included in the docket for this rulemaking.

This action will also make an administrative correction to a permit number.

II. Have the requirements for approval of a SIP revision been met?

The state submission has met the public notice requirements for SIP submissions in accordance with 40 CFR 51.102. The submission also satisfied the completeness criteria of 40 CFR part 51, appendix V. In addition, as explained above and in more detail in the identified docket documents, the revision meets the substantive SIP requirements of the CAA, including section 110 and implementing regulations.

III. What action is EPA taking?

EPA is taking direct final action to approve SIP revisions to include modified permits for the Muscatine County, Iowa, area. The modified permits are for emission points at UTLX and MPW which were included in the 2006 24-hour PM2.5 NAAQS control strategy. The control strategy was proposed in the Federal Register on August 11, 2014, and published as a final rule on December 1, 2014, with the effective date of December 31, 2014.

This action also includes an administrative correction to the permit number for (44) Muscatine Power and Water (Permit NO. 95-A-373-P2).

We are publishing this direct final rule without a prior proposed rule because we view this as a noncontroversial amendment and anticipate no adverse comment because the revisions are largely administrative and consistent with Federal regulations. The detailed rationale for the approval is set forth in the technical support document that can be found in Docket ID No. EPA-R07-OAR-2015-0159. However, in the “Proposed Rules” section of today's Federal Register, we are publishing a separate document that will serve as the proposed rule to approve the SIP revision if adverse comments are received on this direct final rule. We will not institute a second comment period on this action. Any parties interested in commenting must do so at this time. For further information about commenting on this rule, see the ADDRESSES section of this document.

If EPA receives adverse comment, we will publish a timely withdrawal in the Federal Register informing the public that this direct final rule will not take effect. We will address all public comments in any subsequent final rule based on the proposed rule.

Statutory and Executive Order Reviews

In this rule, EPA is finalizing regulatory text that includes incorporation by reference. In accordance with requirements of 1 CFR 51.5, EPA is finalizing the incorporation by reference of Iowa's EPA-Approved Iowa Source-Specific Orders/Permits, section 52.820 (d), described in the direct final amendments to 40 CFR part 52 set forth below. EPA has made, and will continue to make, these documents generally available electronically through www.regulations.gov and/or in hard copy at the appropriate EPA office (see the ADDRESSES section of this preamble for more information).

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” under the terms of Executive Order 12866 (58 FR 51735, October 4, 1993) and is therefore not subject to review under Executive Orders 12866 and 13563 (76 FR 3821, January 21, 2011).

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register.

A major rule cannot take effect until 60 days after it is published in the Federal Register. This action is not a “major rule” as defined by 5 U.S.C. 804(2).

Under section 307(b)(1) of the CAA, petitions for judicial review of this action must be filed in the United States Court of Appeals for the appropriate circuit by June 2, 2015. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Particulate matter, Reporting and recordkeeping requirements.

Dated: March 20, 2015.
Mark Hague,
Acting Regional Administrator, Region 7.

For the reasons stated in the preamble, EPA amends 40 CFR part 52 as set forth below:

PART 52—APPROVAL AND PROMULGATION OF IMPLEMENTATION PLANS

1. The authority citation for part 52 continues to read as follows:

Authority: 42 U.S.C. 7401 et seq.

Subpart Q—Iowa

2. In § 52.820(d) the table is amended by revising entries (41), (42), (44), (45), (47), (54), (76), (77), (78), (79), (80), (85), (86), (87), (92), (95), (97), (103), (104), (105), (106), (107), and (108) to read as follows:

§ 52.820 Identification of plan.

* * * * *

(d) * * *

EPA-Approved Iowa Source-Specific Orders/Permits
Name of source | Order/Permit No. | State effective date | EPA Approval date | Explanation
* * * * * * *
(41) Muscatine Power and Water | Permit NO. 93-A-288-S4 | 9/12/14 | 4/3/15 and [Insert Federal Register citation] |
(42) Muscatine Power and Water | Permit NO. 93-A-289-S4 | 9/12/14 | 4/3/15 and [Insert Federal Register citation] |
* * * * * * *
(44) Muscatine Power and Water | Permit NO. 95-A-373-P2 | 7/22/13 | 4/3/15 and [Insert Federal Register citation] |
(45) Muscatine Power and Water | Permit NO. 00-A-638-S1 | 7/22/13 | 4/3/15 and [Insert Federal Register citation] |
* * * * * * *
(47) Muscatine Power and Water | Permit NO. 00-A-683-S1 | 7/22/13 | 4/3/15 and [Insert Federal Register citation] |
* * * * * * *
(54) Muscatine Power and Water | Permit NO. 04-A-617-S1 | 7/22/13 | 4/3/15 and [Insert Federal Register citation] |
* * * * * * *
(76) Muscatine Power and Water | Permit NO. 80-A-196-S4 | 7/22/13 | 4/3/15 and [Insert Federal Register citation] |
(77) Muscatine Power and Water | Permit NO. 93-A-286-S5 | 7/22/13 | 4/3/15 and [Insert Federal Register citation] |
(78) Muscatine Power and Water | Permit NO. 01-A-457-S5 | 7/22/13 | 4/3/15 and [Insert Federal Register citation] |
(79) Muscatine Power and Water | Permit NO. 06-A-650-S3 | 7/22/13 | 4/3/15 and [Insert Federal Register citation] |
(80) Muscatine Power and Water | Permit NO. 13-A-160-S1 | 7/22/13 | 4/3/15 and [Insert Federal Register citation] |
| * * * * * * *
(85) Union Tank Car Company | Permit NO. 00-A-1086-S3 | 9/2/14 | 4/3/15 and [Insert Federal Register citation] |
(86) Union Tank Car Company | Permit NO. 00-A-1087-S3 | 9/2/14 | 4/3/15 and [Insert Federal Register citation] |
(87) Union Tank Car Company | Permit NO. 00-A-1088-S3 | 9/2/14 | 4/3/15 and [Insert Federal Register citation] |
* * * * * * *
(92) Union Tank Car Company | Permit NO. 96-A-636-S4 | 9/2/14 | 4/3/15 and [Insert Federal Register citation] |
* * * * * * *
(95) Union Tank Car Company | Permit NO. 00-A-531-S3 | 9/2/14 | 4/3/15 and [Insert Federal Register citation] |
* * * * * * *
(97) Union Tank Car Company | Permit NO. 00-A-533-S3 | 9/2/14 | 4/3/15 and [Insert Federal Register citation] |
* * * * * * *
(103) Union Tank Car Company | Permit NO. 00-A-1089-S3 | 9/2/14 | 4/3/15 and [Insert Federal Register citation] |
(104) Union Tank Car Company | Permit NO. 00-A-1090-S3 | 9/2/14 | 4/3/15 and [Insert Federal Register citation] |
(105) Union Tank Car Company | Permit NO. 00-A-1091-S3 | 9/2/14 | 4/3/15 and [Insert Federal Register citation] |
(106) Union Tank Car Company | Permit NO. 10-A-043-S3 | 9/2/14 | 4/3/15 and [Insert Federal Register citation] |
(107) Union Tank Car Company | Permit NO. 09-A-009-S3 | 9/2/14 | 4/3/15 and [Insert Federal Register citation] |
(108) Union Tank Car Company | Permit NO. 09-A-010-S3 | 9/2/14 | 4/3/15 and [Insert Federal Register citation] |
* * * * * * *

* * * * *

[FR Doc. 2015-07488 Filed 4-2-15; 8:45 am]

BILLING CODE 6560-50-P